DEPARTMENT OF HEALTH AND HUMAN SERVICES

Administration for Children and Families

Submission for OMB Review; Comment Request

Title: Temporary Assistance for Needy Families Two-Parent Study.

OMB No.: New Collection.

Description: The Administration for Children and Families (ACF) is proposing an information collection activity as part of the Temporary Assistance for Needy Families Two-Parent Study. Through this information collection, ACF seeks to gain an in-depth, systematic understanding of the characteristics of two-parent families participating in or eligible to receive TANF, the variety of services two-parent families receive through TANF, how state policies may affect participation in TANF among two-parent families, and how the beliefs of staff and eligible families affect two-parent families' participation in TANF.

The proposed information collection consists of semi-structured interviews with key State and local staff, community-based organization representatives, and adult members of two-parent TANF or likely eligible families on questions of TANF policies, service delivery, and program context, as well as focus groups with adult members of two-parent TANF or likely eligible families.

Respondents: State- and local-level TANF administrators and staff, representatives from community-based organizations, and adults from two-parent families on or likely eligible for TANF.

Annual Burden Estimates
Instrument | Total/Annual number of respondents | Number of responses per respondent | Average burden hours per response | Annual burden hours
Discussion Guide for use with state TANF directors | 10 | 1 | 1.5 | 15
Discussion Guide for use with local TANF directors | 5 | 1 | 1.5 | 8
Discussion Guide for use with local TANF front-line staff | 15 | 1 | 1 | 15
Discussion Guide for use with community-based organizations | 5 | 1 | 1 | 5
Discussion Guide for use with client focus groups | 112 | 1 | 1.5 | 168
Discussion guide for use with client interviews | 25 | 1 | 1 | 25

Estimated Total Annual Burden Hours: 236.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2015-05522 Filed 3-10-15; 8:45 am]

BILLING CODE 4184-73-P